DEPARTMENT OF ENERGY

Federal Energy Regulatory Commission

[Docket Nos. ER02-1656-000, ER02-1656-019]

California Independent System Operator Corporation; Notice of Staff Technical Conference

October 26, 2004.

The Federal Energy Regulatory Commission staff is convening a technical conference regarding the California Independent System Operator Corporation's (CAISO) Market Redesign and Technology Upgrade Program. The conference will focus on the California Public Utilities Commission's (CPUC) Resource Adequacy proceeding and market power mitigation issues. The conference agenda will include a presentation by the staff of the CPUC on its most recent decision in the Resource Adequacy proceeding and a presentation by the staff of the CAISO discussing its proposal for market power mitigation, followed by a discussion with and questions from the Federal Energy Regulatory Commission staff.

The conference will be held on November 3, 2004, at the California Public Utilities Commissions' facilities, 505 Van Ness Avenue, San Francisco, California. The conference will convene at 9 a.m., P.s.t. and adjourn at 5 p.m., P.s.t. The conference will be transcribed and transcripts will be placed in the public record ten days after the Commission receives the transcripts. For those interested in acquiring the transcript, further information will be provided at the conference.

The conference is open for the public to attend, and registration is not required. For more information about the conference, please contact: Olga Kolotushkina at (202) 502-6024 or olga.kolotushkina@ferc.gov.

Magalie R. Salas,
Secretary.

[FR Doc. E4-2965 Filed 11-1-04; 8:45 am]

BILLING CODE 6717-01-P